DEPARTMENT OF LABOR

Employee Benefits Security Administration

Agency Information Collection Activities; Announcement of OMB Approvals

AGENCY: Employee Benefits Security Administration, Department of Labor.

ACTION: Notice.

SUMMARY: The Employee Benefits Security Administration (EBSA) announces that the Office of Management and Budget (OMB) has approved certain collections of information, listed in the Supplementary Information section below, following EBSA's submission of requests for such approvals under the Paperwork Reduction Act of 1995 (PRA). This notice describes the approved or re-approved information collections and provides their OMB control numbers and current expiration dates as required by the PRA.

FOR FURTHER INFORMATION CONTACT: G. Christopher Cosby, Office of Regulations and Interpretations, Employee Benefits Security Administration, U.S. Department of Labor, 200 Constitution Avenue NW, Room N-5718, Washington, DC 20210. Telephone: (202) 693-8425 (this is not a toll-free number); Email: cosby.chris@dol.gov.

SUPPLEMENTARY INFORMATION: The PRA and its implementing regulations require Federal agencies to display OMB control numbers and inform respondents of their legal significance after OMB has approved an agency's information collections. In accordance with those requirements, EBSA hereby notifies the public that the following information collections have been re-approved by OMB following EBSA's submission of an information collection request (ICR) for extension of a prior approval:

• OMB Control No. 1210-0064, Class Exemption for Certain Transactions Involving Purchase of Securities where Issuer May Use Proceeds to Reduce or Retire Indebtedness to Parties in Interest (PTE 1980-83). The expiration date for this information collection is January 31, 2023.

• OMB Control No. 1210-0119, Petition for Finding under the Employee Retirement Income Security Act Section 3(40). The expiration date for this information collection is January 31, 2023.

• OMB Control No. 1210-0123, Notice Requirements of the Health Care Continuation Coverage Provisions. The expiration date for this information collection is January 31, 2023.

• OMB Control No. 1210-0130, Statutory Exemption for Cross-Trading of Securities. The expiration date for this information collection is January 31, 2023.

• OMB Control No. 1210-0137, Model Employer Children's Health Insurance Program Notice. The expiration date for this information collection January 31, 2023.

• OMB Control No. 1210-0145, Plan Asset Transactions Determined by In-House Asset Managers under Prohibited Transaction Class Exemption 96-23. The expiration date for this information collection is January 31, 2023.

• OMB Control No. 1210-0049, Prohibited Transaction Class Exemption for Certain Transactions Between Investment Companies and Employee Benefit Plans (PTE 1977-4). The expiration date for this information collection is February 28, 2023.

• OMB Control No. 1210-0128, Plan Asset Transactions Determined by Independent Qualified Professional Asset Managers under Prohibited Transaction Exemption 1984-14. The expiration date for this information collection is February 28, 2023.

• OMB Control No. 1210-0053, Employee Benefit Plan Claims Procedure Under the Employee Retirement Income Security Act. The expiration date for this information collection is April 30, 2023.

• OMB Control No. 1210-0063, Prohibited Transaction Class Exemption 1992-6: Sale of Individual Life Insurance or Annuity Contracts by a Plan. The expiration date for this information collection is June 30, 2023.

• OMB Control No. 1210-0149, Notice to Employees of Coverage Options Under Fair Labor Standards Act Section 18B. The expiration date for this information collection is June 30, 2023.

• OMB Control No. 1210-0161, EBSA Participant Assistance Program Customer Survey. The expiration date for this information collection is June 30, 2023;

• OMB Control No. 1210-0040, Employee Retirement Income Security Act Summary Annual Report Requirement. The expiration date for this information collection is July 31, 2023.

• OMB Control No. 1210-0076, Loans to Plan Participants and Beneficiaries Who Are Parties In Interest With Respect to The Plan Regulation. The expiration date for this information collection is July 31, 2023.

• OMB Control No. 1210-0094, Prohibited Transaction Class Exemption 1985-68 to Permit Employee Benefit Plans to Invest in Customer Notes of Employers. The expiration date for this information collection is July 31, 2023.

• OMB Control No. 1210-0039, Summary Plan Description Requirements Under the Employee Retirement Income Security Act of 1974, as amended. The expiration date for this information collection is August 31, 2023.

• OMB Control No. 1210-0090, Disclosures for Participant Directed Individual Account Plans. The expiration date for this information collection is August 31, 2023.

• OMB Control No. 1210-0121, Consent to Receive Employee Benefit Plan Disclosures Electronically. The expiration date for this information collection is August 31, 2023.

• OMB Control No. 1210-0126, Defined Benefit Plan Annual Funding Notice. The expiration date for this information collection is August 31, 2023.

• OMB Control No. 1210-0132, Default Investment Alternatives under Participant Directed Individual Account Plans. The expiration date for this information collection is August 31, 2023.

EBSA also notifies the public that the following new information collection has been approved by OMB following EBSA's submission of an ICR:

• OMB Control No. 1210-0164, Registration Requirements to Serve as a Pooled Plan Provider to Pooled Employer Plans. The expiration date for this information collection is November 30, 2023.

The PRA provides that an agency may not conduct or sponsor, and a person is not required to respond to, a collection of information unless it displays a currently valid OMB control number. Publication of this notice satisfies this requirement with respect to the above-listed information collections, as provided in 5 CFR 1320.5(b)(2)(C).

Dated: March 25, 2021.
Ali Khawar,
Principal Deputy Assistant Secretary, Employee Benefits Security Administration. Department of Labor.

[FR Doc. 2021-06598 Filed 3-30-21; 8:45 am]

BILLING CODE 4510-29-P